Title 3—

The President

Proclamation 7690 of July 1, 2003

30th Anniversary of the All-Volunteer Force

By the President of the United States of America

A Proclamation

Throughout our history, members of the United States Armed Forces have inspired our citizens with their bravery, honor, and dedication. Our Nation continues to be grateful for the courageous men and women who have demonstrated extraordinary patriotism in choosing to help defend America and the cause of freedom.

For the last 30 years, we have been fortunate to have a military composed entirely of volunteers. When our country's All-Volunteer Force was born on July 1, 1973, no comparable military in the world operated on a fully volunteer basis. Throughout most of the 20th century, the majority of our Armed Forces personnel were drafted, serving our Nation in both World Wars, the Korean conflict, and Vietnam. In the late 1960s, the American public's dissatisfaction with the draft prompted President Richard Nixon to establish The President's Commission on an All-Volunteer Armed Force. After studying whether to retain the draft or establish a volunteer military, the Commission concluded that a volunteer force would be economically viable and potentially more effective. After much debate, the Nixon Administration and the Congress allowed the authority for the draft to lapse, and the All-Volunteer Force was created.

Since that time, our volunteer Armed Forces personnel have upheld the finest traditions of our military and our country. Today, more than 1.4 million men and women choose to serve on active duty, along with nearly 880,000 members of the National Guard and Reserves. These volunteer soldiers helped to win the Cold War, turn back aggression during the Persian Gulf War, keep the peace in the former Yugoslavia, liberate oppressed people in Afghanistan and Iraq, and defend freedom around the world.

As we look toward the future of our country and our military, our Nation gives thanks for the prowess of our military, and we remain committed to providing our service men and women with the tools and training they need to continue to be the best in the world. On the celebration of the 30th anniversary of our All-Volunteer Force, I join Americans in thanking these brave men and women for choosing to serve in defense of the Nation.

NOW, THEREFORE, I, GEORGE W. BUSH, President of the United States of America, by virtue of the authority vested in me by the Constitution and laws of the United States, do hereby proclaim July 1, 2003, as the 30th Anniversary of the All-Volunteer Force. I call upon all Americans to join me in recognizing this anniversary with heartfelt thanks and continued support for the men and women who defend our great Nation.

IN WITNESS WHEREOF, I have hereunto set my hand this first day of July, in the year of our Lord two thousand three, and of the Independence of the United States of America the two hundred and twenty-seventh.

B

[FR Doc. 03-17235

Filed 7-3-03; 8:45 am]

Billing code 3195-01-P